Title 3—

The President

Proclamation 9118 of May 2, 2014

National Charter Schools Week, 2014

By the President of the United States of America

A Proclamation

At the heart of who we are as Americans is the simple but profound idea that no matter who you are, what you look like, or where you come from, if you work hard and meet your responsibilities, you can succeed. Our Nation can only realize this idea through the guarantee of a world-class education for every child. During National Charter Schools Week, we pay tribute to the role our Nation's public charter schools play in advancing opportunity, and we salute the parents, educators, community leaders, policymakers, and philanthropists who gave rise to the charter school sector.

As independent public schools, charter schools have the ability to try innovative approaches to teaching and learning in the classroom. This flexibility comes with high standards and accountability; charter schools must demonstrate that all their students are progressing toward academic excellence. Those that do not measure up can be shut down. And those that are successful can provide effective approaches for the broader public education system. They can show what is possible—schools that give every student the chance to prepare for college and career and to develop a love of learning that lasts a lifetime.

Americans pursue individual success, but we also understand that we have a stake in each other. If we make an investment in every child, then all our children will enjoy a stronger Nation and a brighter world. This week, let us do our part to ensure our young people can go as far as their passions and hard work will take them, and recommit to restoring the American dream for generations to come.

NOW, THEREFORE, I, BARACK OBAMA, President of the United States of America, by virtue of the authority vested in me by the Constitution and the laws of the United States, do hereby proclaim May 4 through May 10, 2014, as National Charter Schools Week. I commend our Nation's charter schools, teachers, and administrators, and I call on States and communities to support high quality public schools, including charter schools and the students they serve.

IN WITNESS WHEREOF, I have hereunto set my hand this second day of May, in the year of our Lord two thousand fourteen, and of the Independence of the United States of America the two hundred and thirty-eighth.

[FR Doc. 2014-10656

Filed 5-6-14; 11:15 am]

Billing code 3295-F4